SECURITIES AND EXCHANGE COMMISSION

Submissions for OMB Review; Comment Request

Upon Written Request, Copies Available From: Securities and Exchange Commission, Office of Filings and Information Services, Washington, DC 20549.

Extensions:

Form T-6; OMB Control No. 3235-0391; SEC File No. 270-344.

Form 11-K; OMB Control No. 3235-0082; SEC File No. 270-101.

Form 144; OMB Control No. 3235-0101; SEC File No. 270-112.

Notice is hereby given that pursuant to the Paperwork Reduction Act of 1995 (44 U.S.C. 3501 et seq.) the Securities and Exchange Commission (“Commission”) has submitted to the Office of Management and Budget these requests for extension of the previously approved collections of information discussed below.

Form T-6 (17 CFR 269.9) is a statement of eligibility and qualification for a foreign corporate trustee under the Trust Indenture Act of 1939 (15 U.S.C. 77aaa et seq.). Form T-6 provides the basis for determining if a trustee is qualified. Form T-6 is filed on occasion. The information collected must be filed with the Commission and is publicly available. Form T-6 takes approximately 17 burden hours per response and is filed by 1 respondent. We estimate that 25% of the 17 total burden hours (4 hours) is prepared by the filer. The remaining 75% of burden hours is prepared by outside counsel.

Form 11-K (17 CFR 249.311) is the annual report designed for use by employee stock purchase, savings and similar plans. Form 11-K provides employees with financial information so that they can assess the performance of the investment vehicle in which their money is invested. Form 11-K is filed on occasion. The information collected must be filed with the Commission and is publicly available. Form 11-K takes approximately 30 burden hours per response and is filed by 2,000 respondents for total of 60,000 burden hours.

Form 144 (17 CFR 239.144) is used to report the sale of securities during any three-month period that exceeds 500 shares or other units or has an aggregate sales price in excess of $10,000. Form 144 operates in conjunction with Rule 144. If the information collection was not required, the objectives of the rule could not be met. The information collected must be filed with the Commission and is publicly available. Form 144 takes approximately 2 burden hours per response and is filed by 60,500 respondents for a total of 121,000 total burden hours.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503 or send an e-mail to David_Rostker@omb.eop.gov; and (ii) R. Corey Booth, Director/Chief Information Officer, Securities and Exchange Commission, C/O Shirley Martinson, 6432 General Green Way, Alexandria, Virginia 22312; or send an e-mail to: PRA_Mailbox@sec.gov. Comments must be submitted to OMB within 30 days of this notice.

Dated: September 18, 2006.
Nancy M. Morris,
Secretary.

[FR Doc. 06-8135 Filed 9-22-06; 8:45 am]

BILLING CODE 8010-01-P